DEPARTMENT OF AGRICULTURE

Farm Service Agency

Dairy Industry Advisory Committee; Public Meeting

AGENCY: Farm Service Agency, USDA.

ACTION: Notice of public meeting.

SUMMARY: As required by the Federal Advisory Committee Act, as amended, the Farm Service Agency (FSA) announces a public meeting of the Dairy Industry Advisory Committee (Dairy Committee) to review and approve the final recommendations to the Secretary of Agriculture. The Dairy Committee is responsible for making recommendations to the Secretary on policy issues impacting the dairy industry. Instructions regarding registering for and listening to the conference call meeting is provided in the SUPPLEMENTARY INFORMATION section of this notice.

DATES: Public meeting: The public meeting will be held via conference call on February 11, 2011, at 1 p.m. EST.

Registration: You must register by February 9, 2011.

Comments: Written comments are due by February 9, 2011.

ADDRESSES: You may submit comments online: Go to http://www.fsa.usda.gov/DIAC. Follow the online instructions for submitting comments.

FOR FURTHER INFORMATION CONTACT: Solomon Whitfield, Designated Federal Official; phone: (202) 720-9886; e-mail: solomon.whitfield@wdc.usda.gov. Persons with disabilities who require alternative means for communication (Braille, large print, audio tape, etc.) should contact the USDA Target Center at (202) 720-2600 (voice and TDD).

SUPPLEMENTARY INFORMATION: In August 2009, USDA established the Dairy Committee. The Dairy Committee reviews issues of farm milk price volatility and dairy farmer profitability. The Dairy Committee provides recommendations to the Secretary on how USDA can best address these issues to meet the dairy industry's needs.

The Secretary of Agriculture selected a diverse group of members representing a broad spectrum of persons interested in providing suggestions and ideas on how USDA can tailor its programs to meet the dairy industry's needs. Equal opportunity practices were considered in all appointments to the Dairy Committee in accordance with USDA policies. The Secretary announced the members on January 6, 2010. Representatives include: Producers and producer organizations, processors and processor organizations, consumers, academia, a retailer, and a state representative.

The Dairy Committee will hold its final public meeting via conference call on February 11, 2011, at 1 p.m. EST. The dairy industry and public are invited to listen in to the conference call and to provide written comments, but will not be allowed to provide oral comments at the meeting. Written comments received from the public will be distributed to Dairy Committee members for consideration at the meeting.

The purpose of the meetings is for the Dairy Committee to approve its final report to the Secretary of Agriculture.

Instructions for Attending the Meeting

Available conference call-in lines for the public are limited to the first 100 registered public attendees. All persons wishing to listen to the meeting via conference call must register through DIAC@wdc.usda.gov by February 9, 2011. An email confirmation will be sent to each registered public listener providing call-in instructions for the meeting. Due to logistical constraints, registration will close at 11:59 p.m. EST on February 9, 2011.

Additional information about the public meeting, meeting agenda, materials and minutes, and how to provide comments is available at the Dairy Committee Web site: http://www.fsa.usda.gov/DIAC.

If you require special accommodations, please use the contact information above.

Notice of these meetings is provided in accordance with section 10(a)(2) of the Federal Advisory Committee Act, as amended, (5 U.S.C. Appendix 2).

Signed in Washington, DC on January 20, 2011.
Jonathan W. Coppess,
Administrator, Farm Service Agency.

[FR Doc. 2011-1644 Filed 1-25-11; 8:45 am]

BILLING CODE 3410-05-P